DEPARTMENT OF ENERGY

Federal Energy Regulatory Commission

18 CFR Parts 35 and 37

[Docket Nos. RM05-25-000 and RM05-17-000]

Preventing Undue Discrimination and Preference in Transmission Service

June 19, 2006.

AGENCY: Federal Energy Regulatory Commission.

ACTION: Notice of Proposed Rulemaking: extension of comment period.

SUMMARY: On May 19, 2006, the Commission issued a notice of proposed rulemaking proposing amendments to its regulations adopted in Order Nos. 888 and 889, and to the pro forma open access transmission tariff, to ensure that transmission services are provided on a basis that is just, reasonable and not unduly discriminatory or preferential, 70 FR 32635, June 6, 2006. The reply comment period is being extended at the request of the Edison Electric Institute.

DATES: Reply comments are due September 20, 2006.

ADDRESSES: You may submit comments, identified by Docket Nos. RM05-25-000 and RM05-17-000, by one of the following methods:

• Agency Web site: http://www.ferc.gov. Follow the instructions for submitting comments via the eFiling link found in the Comment Procedures section of the preamble.

• Mail: Commenters unable to file comments electronically must mail or hand deliver an original and 14 copies of their comments to: Federal Energy Regulatory Commission, Office of the Secretary, 888 First Street, NE., Washington, DC 20426. Please refer to the Comment Procedures section of the preamble for additional information on how to file paper comments.

FOR FURTHER INFORMATION CONTACT:

Daniel Hedberg (Technical Information), Office of Energy Markets and Reliability, Federal Energy Regulatory Commission, 888 First Street, NE., Washington, DC 20426, (202) 502-6243.

Kathleen Barrón (Legal Information), Office of the General Counsel—Energy Markets, Federal Energy Regulatory Commission, 888 First Street, NE., Washington, DC 20426, (202) 502-6461.

David Withnell (Legal Information), Office of the General Counsel—Energy Markets, Federal Energy Regulatory Commission, 888 First Street, NE., Washington, DC 20426, (202) 502-8421.

SUPPLEMENTARY INFORMATION:

Notice Extending Reply Comment Period

On June 16, 2006, Edison Electric Institute filed a motion for an extension of time to file reply comments in response to the Commission's Notice of Proposed Rulemaking issued May 19, 2006 in the above-docketed proceeding. Preventing Undue Discrimination and Preference in Transmission Service, 115 FERC ¶ 61,211 (2006). Upon consideration, the date for filing reply comments in this proceeding is extended to and including September 20, 2006.

Magalie R. Salas,
Secretary.

[FR Doc. E6-10724 Filed 7-11-06; 8:45 am]

BILLING CODE 6717-01-P